DEPARTMENT OF THE INTERIOR

National Park Service

[NPS-WASO-NRNHL-0711-8017; 2280-665]

National Register of Historic Places; Notification of Pending Nominations and Related Actions

Nominations for the following properties being considered for listing or related actions in the National Register were received by the National Park Service before July 16, 2011. Pursuant to § 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th Floor, Washington, DC 20005; or by fax, 202-371-6447. Written or faxed comments should be submitted by August 23, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Perry County

Moore—Webb—Holmes Plantation, Jct. of AL 14 & Webb Rd., Marion, 11000566

ARIZONA

Maricopa County

Silk Stocking Neighborhood Historic District, Generally bounded by Erie St., Chandler Blvd., Delaware St. & alley W. of Washington St., Chandler, 11000567

Pima County

Adams, James P. and Sarah, House, 5201 N. Camino Escuela, Tucson, 11000568

Corcoran, John P. and Helena S., House, 2200 E. Calle Lustre, Tucson, 11000569

Fletcher, P.W., House, 4850 N. Campbell Ave., Tucson, 11000570

Hall, Arthur C. and Helen Neel, House, (Architecture and Planning of Josias Joesler and John Murphey in Tucson, AZ MPS), 4875 N. Campbell Ave., Tucson, 11000571

Hall, Lewis D.W., House, 3160 E. Via Celeste, Tucson, 11000572

McFadden, Phillip G. House, 5130 Camino Real, Tucson, 11000573

Tout, Edwin I. and Gladys M., House, (Architecture and Planning of Josias Joesler and John Murphey in Tucson, AZ MPS), 5000 N. Campbell Ave., Tucson, 11000574

Van Schaick, Nellie Mae Kellogg, House, (Architecture and Planning of Josias Joesler and John Murphey in Tucson, AZ MPS), 4141 N. Pontatoc Rd., Tucson, 11000575

CALIFORNIA

Kern County

Nuestra, Senora Reina de la Paz, 29700 Woodford-Tehachapi Rd., Keene, 11000576

FLORIDA

Lee County

Downtown Boca Grande Historic District, Bounded by Gilchrist Ave., W., 5th St., N., Palm Ave., E., & 3rd St., S., Boca Grande, 11000577

GEORGIA

Candler County

Metter Downtown Historic District, Centered on Broad & Roundtree Sts., Metter, 11000578

Rabun County

Hodgson, Asbury and Sallie, House, 278 White St., Dillard, 11000579

KANSAS

Neosho County

Murray Hill School, (Public Schools of Kansas MPS), 400 W. 3rd St., Chanute, 11000580

MAINE

Franklin County

Barn on Lot 8, Range G, 816 Foster Hill Rd., (Freeman Township), Kingfield, 11000581

Oxford County

Record, E.C. and M.I., Homestead, 8 Bean Rd., Buckfield, 11000582

Waterford Historic District (Boundary Increase), 30 Valley Rd., Waterford, 11000583

York County

Kennebunk High School, 14 Park St., Kennebunk, 11000584

MASSACHUSETTS

Hampshire County

Amherst Central Business District (Boundary Increase), 30 Boltwood Ave., Amherst, 11000585

Worcester County

Oxford Main Street Historic District, Barton, Charlton, Church, E. Main, Elm, Fremont, & Main Sts., Quobaug Ave., Sigourney St., Sutton Ave., West St. Oxford, 11000586

MISSOURI

St. Louis Independent City, Apartments at 5561-71 Chamberlain, 5561-5571 Chamberlain, St. Louis (Independent City), 11000587

MONTANA

Stillwater County

Atlas Block, 523 & 528 E. Pike Ave., Columbus, 11000588

NEW JERSEY

Burlington County

Main Street Friends Meeting House, 19 South St., (Medford Township), Medford, 11000589

Hudson County

Saint Vincent de Paul Roman Catholic Church, 979 Ave. C, Bayonne, 11000590

Mercer County

First Presbyterian Church of Pennington, 13 S. Main St., Pennington, 11000591

Warren County

Rutherford Hall, Jct. of Cty. Rd., 571 & I-80 (Allamuchy Township), Allamuchy, 11000592

NEW YORK

Broome County

Johnson City Historic District, Generally Corless Ave., Arch St., Main St., Lester Ave. & Helen Dr., Johnson City, 11000593

Erie County

Coles, Robert T., House and Studio, 321 Humboldt Pkwy., Buffalo, 11000594

Herkimer County

Bonfoy—Barstow House, 485 E. Main St., West Winfield, 11000595

Little Falls City Hall, 659 E. Main St., Little Falls, 11000596

Nassau County

Harding, Stephen, House, 182 14th Ave., Sea Cliff, 11000597

House at 52 Frost Mill Road, 52 Frost Mill Rd., Mill Neck, 11000598

Onondaga County

Leavenworth Apartments, 615 James St., Syracuse, 11000599

New Kasson Apartments, 622 James St., Syracuse, 11000600

Otsego County

Springfield Center Elementary School, 129 Cty. Rd. 29A, Springfield Center, 11000601

Suffolk County

Woodhull, Josiah, House, 170 North Country Rd., Shoreham, 11000602

NORTH DAKOTA

Grand Forks County

Kegs Drive-In, The, 901 N. 5th St., Grand Forks, 11000603

VIRGINIA

Botetourt County

McDonald, Bryan Jr., House, 4084 Catawba Rd., Troutville, 11000604

Louisa County

Louisa High School, 212 Fredericksburg Ave., Louisa, 11000605

Mecklenburg County

Tanner, O.H.P., House, 3199 Old St. Tammany Rd., LaCrosse, 11000606

[FR Doc. 2011-19967 Filed 8-5-11; 8:45 am]

BILLING CODE 4312-51-P